DEPARTMENT OF THE INTERIOR

Fish and Wildlife Service

[FWS-R4-ES-2018-N107; FXES11140400000-189-FF04E00000]

Endangered Species; Recovery Permit Applications

AGENCY: Fish and Wildlife Service, Interior.

ACTION: Notice of receipt of permit applications; request for comments.

SUMMARY: We, the U.S. Fish and Wildlife Service, have received applications for permits to conduct activities intended to enhance the propagation or survival of endangered species under the Endangered Species Act of 1973, as amended. We invite the public and local, State, Tribal, and Federal agencies to comment on these applications. Before issuing any of the requested permits, we will take into consideration any information that we receive during the public comment period.

DATES: We must receive written data or comments on the applications by December 13, 2018.

ADDRESSES:

Reviewing Documents: Documents and other information submitted with the applications are available for review, subject to the requirements of the Privacy Act and Freedom of Information Act. Submit a request for a copy of such documents to Karen Marlowe (see FOR FURTHER INFORMATION CONTACT).

Submitting Comments: If you wish to comment, you may submit comments by one of the following methods:

• U.S. mail or hand-delivery: U.S. Fish and Wildlife Service Regional Office, Ecological Services, 1875 Century Boulevard, Atlanta, GA 30345 (Attn: Karen Marlowe, Permit Coordinator).

• Email: permitsR4ES@fws.gov. Please include your name and return address in your email message. If you do not receive a confirmation from the U.S. Fish and Wildlife Service that we have received your email message, contact us directly at the telephone number listed in FOR FURTHER INFORMATION CONTACT.

FOR FURTHER INFORMATION CONTACT: Karen Marlowe, Permit Coordinator, 404-679-7097 (telephone), karen_marlowe@fws.gov (email), or 404-679-7081 (fax). Individuals who are hearing or speech impaired may call the Federal Relay Service at 1-800-877-8339 for TTY assistance.

SUPPLEMENTARY INFORMATION: We invite review and comment from local, State, and Federal agencies and the public on applications we have received for permits to conduct certain activities with endangered and threatened species under section 10(a)(1)(A) of the Endangered Species Act of 1973, as amended (ESA; 16 U.S.C. 1531 et seq.), and our regulations in the Code of Federal Regulations (CFR) at 50 CFR part 17. With some exceptions, the ESA prohibits activities that constitute take of listed species unless a Federal permit is issued that allows such activities. The ESA's definition of “take” includes hunting, shooting, harming, wounding, or killing, and also such activities as pursuing, harassing, trapping, capturing, or collecting.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Before including your address, phone number, email address, or other personal identifying information in your comment, you should be aware that your entire comment—including your personal identifying information—may be made publicly available at any time. While you can ask us in your comment to withhold your personal identifying information from public review, we cannot guarantee that we will be able to do so.

Permit application No. | Applicant | Species/numbers | Location | Activity | Type of take | Permit action
TE 676379-6 | National Oceanic and Atmospheric Administration, National Marine Fisheries Service, Southeast Fisheries Science Center, Miami, FL | Hawksbill (Eretmochelys imbricata), Kemp's ridley (Lepidochelys kempii), and Leatherback (Dermochelys coriacea) sea turtles | Florida, Mississippi, and Texas | Turtle Excluder Device (TED) certification trials and nest surveys and excavation | Conduct nest surveys, locate egg chambers, screen and mark nests, monitor nests for hatching, and excavate nests. Remove Kemp's ridley sea turtle hatchlings from wild to rear in captivity for a period of 1-2 years for use in TED certification trials | Renewal and Amendment.
TE 97308A-1 | John L. Harris, Scott, AR | 19 species of freshwater mussels | Alabama, Arkansas, Illinois, Indiana, Iowa, Kansas, Kentucky, Louisiana, Michigan, Minnesota, Mississippi, Missouri, Nebraska, Ohio, Oklahoma, Pennsylvania, South Dakota, Tennessee, Virginia, West Virginia, and Wisconsin | Presence/absence surveys, population estimate surveys, and DNA sampling | Remove from substrate, handle, identify, collect tissue swabs, return to substrate, and salvage relic shells | Renewal.
TE 48576B-1 | Carson Wood, Castle Hayne, NC | Red-cockaded woodpecker (Picoides borealis) | Alabama, Arkansas, Florida, Georgia, Louisiana, Mississippi, North Carolina, and South Carolina | Population management and monitoring | Capture, band, monitor nest cavities, construct and monitor artificial nest cavities and restrictors, and salvage | Renewal.
TE 86956C-0 | Robert Davis, Tallahassee, FL | 16 species of freshwater mussels | Alabama, Florida, and Georgia | Presence/absence surveys | Remove from the substrate, handle, identify, and return to substrate | New.
TE 041314-6 | U.S. Army, Fort Polk, LA | Red-cockaded woodpecker (Picoides borealis) and Louisiana pine snake (Pituophis ruthveni) | Fort Polk Military Base, Fort Polk, Louisiana. Red-cockaded woodpecker translocation activities also in Arkansas, Louisiana, Oklahoma, and Texas | Population management and monitoring and screening for disease | Red-cockaded woodpecker: Capture, band, translocate, monitor nest cavities, construct and monitor artificial nest cavities and restrictors. Louisiana pine snake: capture, handle, measure, weigh, PIT-tag, swab, remove radio transmitters, and collect blood, fecal, and shed skin samples | Renewal and Amendment.
TE 88796C-0 | Geological Survey of Alabama, Tuscaloosa, AL | Watercress darter (Etheostoma nuchale) | Watercress Darter National Wildlife Refuge, Bessemer, Alabama | Presence/absence and population surveys | Capture with seine nets, identify, and release | New.
TE 89030C-0 | Mark Strong, Smithsonian Institution, Washington, DC | 25 species of plants | Lake Wales Ridge National Wildlife Refuge, Florida | Collect genomic tissue samples and herbarium vouchers | Collect leaf tissue samples and a single branch or small above-ground portion of the plant | New.
TE 171594-1 | Craig Martin, Wetland Sciences, Inc., Pensacola, FL | Alabama beach mouse (Peromyscus polionotus ammobates), Choctawhatchee beach mouse (Peromyscus polionotus allophrys), and Perdido Key beach mouse (Peromyscus polionotus trissyllepsis) | Alabama and Florida | Presence/absence surveys | Capture, identify, and release | Renewal and Amendment.
TE 97394A-3 | Zachary Couch, Pleasureville, KY | Gray bats (Myotis grisescens), Indiana bats (Myotis sodalis), Northern long-eared bats (Myotis septentrionalis), and Virginia big-eared bats (Corynorhinus townsendii virginianus) | Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/absence surveys, population monitoring, and studies to document habitat use | Enter hibernacula or maternity roost caves, capture with mist nets or harp traps, handle, identify, band, radio-tag, light-tag, collect hair samples, wing-punch, and salvage | Renewal.
TE 02200B-1 | Atlanta Botanical Garden, Atlanta, GA | Helonias bullata (Swamp pink), Platanthera integrilabia (White fringeless orchid), Sarracenia oreophila (Green pitcher plant), Spiraea virginiana (Virginia spiraea), Trillium persistens (Persistent trillium), Trillium reliquum (Relict trillium), and Xyris tennesseensis (Tennessee yellow-eyed grass) | Federal lands in Alabama, Georgia, North Carolina, and Tennessee | Long-term storage, artificial propagation, and ex situ safeguarding | Remove and reduce to possession (collect) seeds | Renewal and Amendment.
TE 35594A-3 | Alabama Power Company, Birmingham, AL | Gray bats (Myotis grisescens), Indiana bats (Myotis sodalis), Northern long-eared bats (Myotis septentrionalis), Gopher tortoise (Gopherus polyphemus), Black Warrior waterdog (Necturus alabamensis) | Alabama | Presence/absence surveys, population monitoring, upper respiratory tract disease testing, and DNA analysis | Bats: Capture with mist-nets, handle, identify, band, and radio-tag. Gopher tortoise: Add authorization to trap, attach radio transmitters, and collect blood. Black Warrior waterdog: Trap, handle, identify, and collect tail sample | Amendment.

Authority We publish this notice under section 10(c) of the Endangered Species Act of 1973, as amended (16 U.S.C. 1531 et seq.).

Leopoldo Miranda,
Assistant Regional Director, Ecological Services, Southeast Region.

[FR Doc. 2018-24607 Filed 11-9-18; 8:45 am]

BILLING CODE 4333-15-P